DEPARTMENT OF EDUCATION

Office of Special Education and Rehabilitative Services

Reauthorization of the Individuals With Disabilities Education Act

AGENCY: Office of Special Education and Rehabilitative Services, Department of Education.

ACTION: Notice of request for public comment on the Individuals with Disabilities Education Act and its implementation.

SUMMARY: The Secretary of Education invites written comments from the public on the Individuals with Disabilities Education Act (IDEA) to assist the Department in preparing for reauthorization of the Act in 2002.

DATES: In order to ensure that your comments are considered by the Department in preparing its legislative proposal on IDEA, we encourage you to submit the comments before February 25, 2002.

ADDRESSES: All comments concerning the reauthorization of IDEA should be addressed to Thomas Irvin, Office of Special Education and Rehabilitative Services, U.S. Department of Education, and submitted by one of the following methods:

1. Internet. We encourage you to send your comments through the Internet at the following address: Comments@ed.gov.

You must use the term IDEA Reauthorization in the subject line of your electronic message.

2. Surface Mail. Alternatively, you may submit your comments via surface mail to: Office of Special Education and Rehabilitative Services, U.S. Department of Education, 400 Maryland Avenue, SW., Mary E. Switzer Building, Room 3086, Washington DC 20202-2570.

To ensure that we do not receive duplicate copies of comments, please submit your comments only one time—using one of the two methods described in the preceding paragraphs (Internet or surface mail).

FOR FURTHER INFORMATION CONTACT: JoLeta Reynolds or Thomas Irvin (202) 205-5507. If you use a telecommunication device for the deaf (TTD) you may call the TDD number at (202) 205-5465.

Individuals with disabilities may obtain this document in an alternative format (e.g., Braille, large print, audiotape, or computer diskette) on request to Katie Mincey, Director of the Alternate Formats Center. Telephone: (202) 205-8113.

Electronic Access to This Document

You may view this document, as well as all other Department of Education documents published in the Federal Register, in text or Adobe Portable Document Format (PDF) on the Internet at the following site: www.ed.gov/legislation/FedRegister.To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html/

SUPPLEMENTARY INFORMATION:

Background and Description of the Act

On June 4, 1997, the Individuals with Disabilities Education Act (IDEA) Amendments of 1997 were enacted into law as Pub. L. 105-17. These Amendments reauthorized and made significant changes to IDEA to accomplish the following: (1) Ensure better results for children with disabilities, while retaining (and expanding upon) the rights and protections under prior law; (2) revise the discretionary programs to strengthen the capacity of States to effectively serve children with disabilities, including infants and toddlers with disabilities; and (3) make other improvements to IDEA, including simplifying the structure and organization of the Act.

As authorized by the 1997 Amendments, IDEA is divided into four major parts:

Part A (General Provisions) includes the findings and purposes of the Act; definitions; authority for the Office of Special Education Programs; abrogation of State sovereign immunity; authority for the acquisition of equipment and construction of facilities; provisions regarding the employment of individuals with disabilities; and requirements for prescribing regulations.

Part B (Assistance for Education of All Children with Disabilities) authorizes a State formula grant program for the education of children with disabilities aged 3 through 21. The Act includes provisions regarding—(1) conditions for State and local eligibility (e.g., ensuring a free appropriate public education for all eligible children); (2) evaluations, child eligibility, and individualized education programs (IEPs); and (3) procedural safeguards (e.g., mediation, due process procedures, and pendency or stay-put requirements, including discipline procedures). In addition, Part B includes other provisions, including data collection requirements.

Part B also authorizes a Preschool Grants program that provides additional funds to help States provide special education and related services to children with disabilities aged three through five.

Part C authorizes the early intervention program for infants and toddlers with disabilities, which provides Federal assistance to help States maintain and implement a statewide system of early intervention services for young children with disabilities, aged birth through two, and their families. The Act sets out eligibility conditions for State participation in the program, including—(1) a policy that ensures appropriate early intervention services for all eligible children, including, at State discretion, children who are at risk of experiencing substantial developmental delays; and (2) other requirements (e.g., provisions regarding individualized family service plans (IFSPs), natural environments, procedural safeguards, and financing of early intervention services).

Part D authorizes a series of discretionary programs to support National activities to improve the education of children with disabilities, including State Improvement Grants, coordinated research and personnel preparation, parent training and information centers, technical assistance and dissemination, technology development, demonstration, and utilization, and media services.

Need for Reauthorization

Two major parts of IDEA will expire on September 30, 2002: Part C (Infants and Toddlers with Disabilities); and Part D (National Activities to Improve Education of Children with Disabilities). Thus, we are seeking broad public input regarding changes needed to improve implementation of the early intervention program for infants and toddlers with disabilities under Part C, and the effectiveness of the National Activities under Part D.

We also will consider all relevant comments received on the Notice of Proposed Rulemaking (NPRM) for the Part C program that was published on September 5, 2000 (65 FR 53808). (The Secretary is publishing a Notice withdrawing the Part C NPRM in this issue of the Federal Register.)

Although Part B of IDEA is permanent legislation with no requirement for reauthorization, the reauthorization process for Parts C and D provides an opportunity to carefully examine Part B as well.

The President has laid out four principles of education reform to ensure that no child is left behind. These principles are: accountability for results, local control and flexibility, empowering parents to participate more meaningfully in their children's education, and employing research-based practices that we know work to improve student performance. Using this underlying framework, the Secretary solicits public comment regarding the reauthorization of IDEA.

We are particularly interested in identifying opportunities for increasing flexibility and reducing unnecessary paperwork and burden while maintaining the important rights and protections of children with disabilities and their families.

Invitation To Comment

We encourage your comments on the broad areas identified in the preceding paragraphs (under Need for Reauthorization). Because we believe that reforms to IDEA should be based, to the greatest degree possible, on evidence that demonstrates the need for reform and that can guide those reforms, we are also particularly interested in receiving factual information and research in these broad areas. We also seek comment on the following specific areas:

(1) Accountability. How, and to what degree, are children with disabilities being included in State and local accountability systems? What barriers exist to inclusion of these children in the accountability systems? What recommendations do you have to eliminate these barriers?

(2) Personnel Issues. In what areas of special education and related services (or early intervention services) are States and school districts (or lead agencies) experiencing problems in finding and retaining qualified personnel? Are funds that are available at the Federal, State, and local levels being used effectively to address personnel shortages? For teachers, administrators, and others responding to these questions, what recommendations do you have to alleviate personnel shortages?

Are the pre-service and in-service training programs offered by State and local educational agencies based on research-derived methods that are proven to improve results for children? Do regular and special education teachers believe their college preparation programs prepared them to teach students with disabilities? Do local administrators believe the regular and special education teachers they are hiring are qualified to teach students with disabilities?

(3) Parent Involvement. For parents of children with disabilities, what barriers to meaningful participation in your child's education have you experienced? For school districts, what barriers have you faced in ensuring meaningful parent involvement? For parents and professionals involved in the early intervention program under Part C, what barriers have you experienced? In each of these cases, have you experienced any efforts to increase parent involvement that you believe are successful? If so, please describe them.

(4) Transition to Post-School Endeavors. To what extent are school aged students with disabilities routinely participating in their IEP meetings? What barriers exist to full implementation of the IDEA's current transition requirements? What recommendations do you have to eliminate these barriers?

(5) Excessive Paperwork. For administrators, teachers, or other personnel, describe any burdens you are experiencing in implementing the Part B (or Part C) requirements. What specific requirements are problematic, and what kinds of problems are you having? What recommendations do you have to resolve these problems? What paperwork requirements do little to further educational goals of children with disabilities and/or provide appropriate protections to the children and their families? What paperwork is completed by clerical staff, administrators, special education teachers, and regular education teachers? What paperwork now completed by teachers and administrators could be completed by clerical staff, if they were available? What steps have you taken in order to try to reduce IDEA paperwork burden?

(6) Local School Districts—20 Percent Funds. Under section 613(a)(2)(C), a school district may treat as local funds up to 20 percent of the amount it receives under Part B that exceeds the amount it received during the prior fiscal year. To what extent are school districts using this authority? How are school districts using the local funds that become available?

(7) Use of Insurance under Part C. To what extent are private and public insurance used in paying for early intervention services under Part C in your State? Have parents suffered any financial or other difficulties resulting from the use of their insurance? What difficulties do lead agencies have in accessing public or private insurance?

In submitting your comments, please identify the area of your involvement in special education, regular education or early intervention, as well as your role, if any, in that area (e.g., parent, teacher, student, service provider, administrator, or researcher). In addition, if appropriate to your comments, please identify the specific Part and section of IDEA that is the subject of your comments, and specify why the statute needs to be amended.

Program Authority: 20 U.S.C. 1400 et seq.

Dated: December 28, 2001.
Loretta L. Petty,
Acting Assistant Secretary for Special Education and Rehabilitative Services.

[FR Doc. 02-623 Filed 1-9-02; 8:45 am]

BILLING CODE 4000-01-U